DEPARTMENT OF TRANSPORTATION

Federal Aviation Administration

14 CFR Part 39

[Docket No. FAA-2013-0630; Directorate Identifier 2012-NM-213-AD; Amendment 39-17660; AD 2013-23-05]

RIN 2120-AA64

Airworthiness Directives; Fokker Services B.V. Airplanes

AGENCY: Federal Aviation Administration (FAA), Department of Transportation (DOT).

ACTION: Final rule.

SUMMARY: We are adopting a new airworthiness directive (AD) for all Fokker Services B.V. Model F.28 Mark 0070 and 0100 airplanes. This AD was prompted by a design review, which revealed that, under certain failure conditions, wiring in the main fuel tank could develop a short circuit that might cause a hot spot on the wiring conduit or puncture the wiring conduit wall. This AD requires installing fuses in the power supply wiring and/or return wiring for various components in the fuel system; and revising the airplane maintenance program by incorporating critical design configuration control limitations. We are issuing this AD to prevent an ignition source in the main fuel tank vapor space, which could result in a fuel tank explosion and consequent loss of the airplane.

DATES: This AD becomes effective December 20, 2013.

The Director of the Federal Register approved the incorporation by reference of a certain publication listed in this AD as of December 20, 2013.

ADDRESSES: You may examine the AD on the Internet at http://www.regulations.gov/#!docketDetail;D=FAA-2013-0630; or in person at the U.S. Department of Transportation, Docket Operations, M-30, West Building Ground Floor, Room W12-140, 1200 New Jersey Avenue SE., Washington, DC.

For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to the specified products. The NPRM published in the Federal Register on July 31, 2013 (78 FR 46303). The NPRM proposed to correct an unsafe condition for the specified products.

The European Aviation Safety Agency (EASA), which is the Technical Agent for the Member States of the European Community, has issued EASA Airworthiness Directive 2012-0241, dated November 12, 2012 (referred to after this as the Mandatory Continuing Airworthiness Information, or “the MCAI”), to correct an unsafe condition for the specified products. The MCAI states:

Prompted by an accident * * *, the FAA published Special Federal Aviation Regulation (SFAR) 88 [66 FR 23086, May 7, 2001], and the Joint Aviation Authorities (JAA) published Interim Policy INT/POL/25/12.

The design review conducted by Fokker Services on the Fokker 70 and Fokker 100 in response to these regulations revealed that under certain failure conditions of the wiring of the Overflow Valve Reed Switch, or the solenoid of the Level Control Pilot Valve (LCPV), or the solenoid of the Re/De-fueling Shut- Off Valve, or the Collector-Tank Low Level Float-Switch, a short circuit may develop that causes a hot spot on the wiring conduit, or puncturing of the wiring conduit wall in the main fuel tank.

This condition, if not corrected, could create an ignition source in the main fuel tank vapour space, possibly resulting in a fuel tank explosion and consequent loss of the aeroplane.

For the reasons described above, this [EASA]AD requires the installation of fuses in the power supply wiring and/or return wiring for the main tank overflow valve reed-switches, the LCPV solenoid, the Re/De-fuel shut-off valve solenoid and the collector-tank Low Level float switch and subsequently, the implementation of the associated Critical Design Configuration Control Limitations (CDCCL[s]) [and revising the maintenance program to incorporate the CDCCLs].

You may examine the MCAI in the AD docket on the Internet at http://www.regulations.gov/#!documentDetail;D=FAA-2013-0630-0002.

Comments

We gave the public the opportunity to participate in developing this AD. We received no comments on the NPRM (78 FR 46303, July 31, 2013) or on the determination of the cost to the public.

Conclusion

We reviewed the available data and determined that air safety and the public interest require adopting this AD as proposed except for minor editorial changes. We have determined that these minor changes:

• Are consistent with the intent that was proposed in the NPRM (78 FR 46303, July 31, 2013) for correcting the unsafe condition; and

• Do not add any additional burden upon the public than was already proposed in the NPRM (78 FR 46303, July 31, 2013).

Costs of Compliance

We estimate that this AD affects 10 airplanes of U.S. registry.

We estimate the following costs to comply with this AD:

Estimated Costs
Action | Labor cost | Parts cost | Cost per product | Cost on U.S. operators
Installation and revision of maintenance program | 29 work-hours × $85 per hour = $2,465 | $4,600 | $7,065 | $70,650

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the MCAI in the AD docket on the Internet at http://www.regulations.gov/#!documentDetail;D=FAA-2013-0630-0002; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-23-05 Fokker Services B.V.: Amendment 39-17660. Docket No. FAA-2013-0630; Directorate Identifier 2012-NM-213-AD.

(a) Effective Date

This airworthiness directive (AD) becomes effective December 20, 2013.

(b) Affected ADs

None.

(c) Applicability

This AD applies to Fokker Services B.V. Model F.28 Mark 0070 and 0100 airplanes, certificated in any category, all serial numbers.

(d) Subject

Air Transport Association (ATA) of America Code 28, Fuel.

(e) Reason

This AD was prompted by a design review, which revealed that, under certain failure conditions, wiring in the main fuel tank could develop a short circuit that might cause a hot spot on the wiring conduit or puncture the wiring conduit wall. We are issuing this AD to prevent an ignition source in the main fuel tank vapor space, which could result in a fuel tank explosion and consequent loss of the airplane.

(f) Compliance

You are responsible for having the actions required by this AD performed within the compliance times specified, unless the actions have already been done.

(g) Installation of Fuses

Within 24 months after the effective date of this AD: Install fuses in the power supply wiring and return wiring, as applicable, for the reed-switches in the main fuel tank overflow valve, level control pilot valve solenoid, re/de-fuel shut off valve solenoid, and the collector-tank low level float switch, in accordance with the Accomplishment Instructions of Fokker Service Bulletin SBF100-28-068, dated August 10, 2012, including the drawings specified in paragraphs (g)(1) through (g)(3) of this AD and the manual change notification specified in paragraph (g)(4) of this AD.

(1) Fokker Drawing W41192, Sheet 051, Issue AS (the issue date is not specified on the drawing).

(2) Fokker Drawing W41208, Sheet 002, Issue B (the issue date is not specified on the drawing).

(3) Fokker Drawing W59520, Sheet 002, Issue E, dated March 18, 2011.

(4) Fokker Manual Change Notification MCNM F100-143, dated August 10, 2012.

(h) Revision of Maintenance or Inspection Program

After installing the fuses as required by paragraph (g) of this AD, before further flight, revise the maintenance or inspection program, as applicable, by incorporating the critical design configuration control limitations (CDCCLs) specified in paragraph 1.L.(1)(c) of Fokker Service Bulletin SBF100-28-068, dated August 10, 2012, including the drawings specified in paragraphs (h)(1) through (h)(3) of this AD and the manual change notification specified in paragraph (h)(4) of this AD.

(1) Fokker Drawing W41192, Sheet 051, Issue AS (the issue date is not specified on the drawing).

(2) Fokker Drawing W41208, Sheet 002, Issue B (the issue date is not specified on the drawing).

(3) Fokker Drawing W59520, Sheet 002, Issue E, dated March 18, 2011.

(4) Fokker Manual Change Notification MCNM F100-143, dated August 10, 2012.

(i) No Alternative Intervals or CDCCLs

After the CDCCLs have been incorporated, as required by paragraph (h) of this AD, no alternative CDCCLs may be used unless the CDCCLs are approved as an alternative method of compliance (AMOC) in accordance with the procedures specified in paragraph (j) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to Mandatory Continuing Airworthiness Information (MCAI) European Aviation Safety Agency Airworthiness Directive 2012-0241, dated November 12, 2012, for related information. You may examine the MCAI in the AD docket on the Internet at http://www.regulations.gov/#!documentDetail;D=FAA-2013-0630-0002.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Service Bulletin SBF100-28-068, dated August 10, 2012, including the drawings specified in paragraphs (l)(2)(i)(A) through (l)(2)(i)(C) of this AD and the manual change notification specified in paragraph (l)(2)(i)(D) of this AD.

(A) Fokker Drawing W41192, Sheet 051, Issue AS (the issue date is not specified on the drawing).

(B) Fokker Drawing W41208, Sheet 002, Issue B (the issue date is not specified on the drawing).

(C) Fokker Drawing W59520, Sheet 002, Issue E, dated March 18, 2011.

(D) Fokker Manual Change Notification MCNM F100-143, dated August 10, 2012.

(ii) Reserved.

(3) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 6, 2013.
Jeffrey E. Duven,
Acting Manager, Transport Airplane Directorate, Aircraft Certification Service.

[FR Doc. 2013-27229 Filed 11-14-13; 8:45 am]

BILLING CODE 4910-13-P